DEPARTMENT OF ENERGY

Federal Energy Regulatory Commission

[Docket Nos. ER20-1942-000; ER20-1942-001; Docket No. ER20-2005-000]

Midcontinent Independent System Operator, Inc.; Notice of Conference Call

June 25, 2020.

On Friday, July 10, 2020, Commission staff will hold a conference call with Midcontinent Independent System Operator, Inc. (MISO) at 3:00 p.m. (Eastern Time). The purpose of the conference call is to address factual questions related to MISO's proposed tariff revisions filed in the two captioned dockets regarding the deliverability requirements for intermittent and non-intermittent Capacity Resources to convert capacity to Zonal Resource Credits. Please be advised that the questions listed in the Appendix to this notice, as well as possible follow-up questions, will be discussed during the conference call. Additional questions may also be discussed.

The conference call will not be webcasted or transcribed. However, for any person interested in these proceedings, an audio listen-only line will be provided. Those wishing to access the listen-only line must email Corey Cox at Corey.Cox@ferc.gov by 5:00 p.m. (Eastern Time) on Thursday, July 2, 2020, with your name, email, and phone number, in order to receive the call-in information before the conference call. Please use the following text for the subject line, “ER20-1942-000 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Corey Cox by phone at (202) 502-6848 or by email at Corey.Cox@ferc.gov.

Kimberly D. Bose,
Secretary.

[FR Doc. 2020-14186 Filed 6-30-20; 8:45 am]

BILLING CODE 6717-01-P